INTERNATIONAL TRADE COMMISSION

[Investigation No. 337-TA-701]

In the Matter of Certain Electronic Devices, Including Mobile Phones, Portable Music Players, and Computers; Notice of Commission Determination To Grant a Joint Motion by Complainants and Respondent To Terminate the Investigation in Its Entirety on the Basis of a Settlement Agreement

AGENCY: U.S. International Trade Commission.

ACTION: Notice.

SUMMARY: Notice is hereby given that the U.S. International Trade Commission has determined to grant the joint motion by Complainants and Respondent to terminate the investigation on the basis of a settlement agreement.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 28, 2010, based on a complaint filed by Nokia Corporation of Finland and Nokia Inc. of White Plains, New York (collectively, “Nokia”). 75 FR 4583-4 (Jan. 28, 2010). The complaint alleged violations of section 337 of the Tariff Act of 1930 (19 U.S.C. 1337) in the importation into the United States, the sale for importation, and the sale within the United States after importation of certain electronic devices, including mobile phones, portable music players, and computers by reason of infringement of various claims of United States Patent Nos. 6,895,256; 6,518,957; 6,714,091; 6,834,181; 6,924,789; 6,073,036; and 6,262,735. The complaint named Apple Inc. of Cupertino, California (“Apple”) as respondent.

On March 25, 2011, the ALJ issued his final Initial Determination (“ID”), finding no violation of section 337 by Apple with respect to any of the asserted claims of the pending patents. On May 26, 2011, the Commission determined, upon Nokia's and the Commission investigative attorney's (“IA”) respective petitions and Apple's contingent petition, to review the ID in part, and requested briefing from the parties on the issues under review. 76 FR 31938 (June 2, 2011). On June 9, 2011, the parties submitted their respective briefs on the issues under review.

On June 16, 2011, Nokia and Apple filed a joint motion to terminate the investigation on the basis of a settlement agreement. On June 17, 2011, the IA filed a response in support of the motion.

Having examined the record of this investigation, the Commission has determined to grant the joint motion to terminate the investigation.

The authority for the Commission's determination is contained in section 337 of the Tariff Act of 1930, as amended (19 U.S.C. 1337), and in sections 210.21 and 210.50 of the Commission's Rules of Practice and Procedure (19 CFR 210.21 and 210.50).

By order of the Commission.
Issued: July 7, 2011.
James R. Holbein,
Secretary to the Commission.

[FR Doc. 2011-17459 Filed 7-11-11; 8:45 am]

BILLING CODE 7020-02-P